DEPARTMENT OF HOUSING AND URBAN DEVELOPMENT

[Docket No. FR-5041-N-41]

Notice of Proposed Information Collection: Comment Request; HUD-Owned Real Estate—Dollar Home Sales Program

AGENCY: Office of the Assistant Secretary for Housing—Federal Housing Commissioner, HUD.

ACTION: Notice.

SUMMARY: The proposed information collection requirement described below will be submitted to the Office of Management and Budget (OMB) for review, as required by the Paperwork Reduction Act. The Department is soliciting public comments on the subject proposal.

DATES: Comments Due Date: January 2, 2007.

ADDRESSES: Interested persons are invited to submit comments regarding this proposal. Comments should refer to the proposal by name and/or OMB Control Number and should be sent to: Lillian Deitzer, Departmental Reports Management Officer, Department of Housing and Urban Development, 451 7th Street, SW., Washington, DC 20410 or Lillian_L._ Deitzer@hud.gov.

FOR FURTHER INFORMATION CONTACT: Laurie Maggiano, Acting Director, Office of Single Family Asset Management, Department of Housing and Urban Development, 451 7th Street, SW., Washington, DC 20410, telephone (202) 708-1672 (this is not a toll free number) for copies of the proposed forms and other available information.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: HUD-Owned Real Estate—Dollar Home Sales Program.

OMB Control Number, if applicable: 2502-NEW.

Description of the need for the information and proposed use: This collection was formerly part of a collection titled Single Family Housing Property Disposition and Acquisition (Conveyance) of Mortgaged Properties. HUD published a Federal Register notice soliciting public comments on April 17, 2006 (Vol. 71, No. 73, pages 19746-19746). No comments were received. Since that publication, however, the information collection request for the Dollar Home Sales Program has been disaggregated. This revision now presents only documents related to the Dollar Home Sales Program. Among the information collections are a local government's notification to HUD of disposition strategies and public purpose goals; affirmation that all profits from re-sales of these Dollar Homes will go to support local housing/community development initiatives; identification of specific programs or uses any profits will support; identification of an agency of government to act as the local government's agent to purchase Dollar Homes; recordkeeping; and an annual report to HUD.

Agency form numbers, if applicable: None.

Estimation of the total numbers of hours needed to prepare the information collection including number of respondents, frequency of response, and hours of response: The estimated number of burden hours needed to prepare the information collection is 688 hours; the number of respondents is approximately 110, generating approximately 825 annual responses; the frequency of response is “on occasion” and annually; and the estimated time needed to prepare the response varies from 30 minutes to one hour per response.

Status of the proposed information collection: This is a request for a new collection to disaggregate only those information collection requirements of the Dollar Home Sales Program.

Authority: The Paperwork Reduction Act of 1995, 44 U.S.C., Chapter 35, as amended.

Dated: October 26, 2006.
Frank L. Davis,
General Deputy Assistant Secretary for Housing—Deputy Federal Housing Commissioner.

[FR Doc. E6-18435 Filed 11-1-06; 8:45 am]

BILLING CODE 4210-67-P